INTERNATIONAL TRADE COMMISSION

[USITC SE-12-011]

Government in the Sunshine Act Meeting Notice

AGENCY HOLDING THE MEETING: International Trade Commission.

TIME AND DATE: April 17, 2012 at 9:30 a.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. Nos. 701-TA-477 and 731-TA-1180-1181 (Final) (Bottom Mount Combination Refrigerator-Freezers from Korea and Mexico). The Commission is currently scheduled to transmit its determinations and Commissioners' opinions to the Secretary of Commerce on or before April 30, 2012.

5. Vote in Inv. Nos. 701-TA-478 and 731-TA-1182 (Final) (Certain Steel Wheels from China). The Commission is currently scheduled to transmit its determinations and Commissioners' opinions to the Secretary of Commerce on or before April 30, 2012.

6. Outstanding action jackets: none.

In accordance with Commission policy, subject matter listed above, not disposed of at the scheduled meeting, may be carried over to the agenda of the following meeting.

By order of the Commission.
Issued: April 10, 2012.
James R. Holbein,
Secretary to the Commission.

[FR Doc. 2012-9021 Filed 4-11-12; 11:15 am]

BILLING CODE P